OFFICE OF SCIENCE AND TECHNOLOGY POLICY

Notice of Release of Appendix 3 To Draft Strategic Plan for U.S. Integrated Earth Observation System and Extension of Public Comment Period

ACTION: Notice of release and extension of public comment period.

SUMMARY: This notice announces the release of the Appendix 3 to the Draft Strategic Plan for the U.S. Integrated Earth Observation System and extension of the public comment period by the National Science and Technology Council's (NSTC) Committee on Environment and Natural Resources (CENR) Interagency Working Group on Earth Observations (IWGEO). This draft plan was prepared to address the effective use of Earth observation systems to benefit humankind, and Appendix 3 provides a summary of the state of the current observation systems addressed in the plan.

DATES AND ADDRESSES: The Draft Strategic Plan was made available for public review on Wednesday, September 8, 2004, and can be accessed electronically at http://iwgeo.ssc.nasa.gov/draftstrategicplan. Appendix 3 to this document, along with the associated Technical Reference Documents will be available at http://iwgeo.ssc.nasa.gov on Wednesday, November 10, 2004. In order to provide time to review Appendix 3, the comment period has been extended to no later that the close of business on Tuesday, November 30, 2004. Comments on the Technical Reference Documents do not have a close date, as they are continually being updated. Only electronic (e-mail) comments will be accepted, and should be sent to: IWGEOcomments@noaa.gov.

FOR FURTHER INFORMATION CONTACT: For information regarding this Notice, please contact Carla Sullivan, National Oceanic and Atmospheric Administration. Telephone: (202) 482-5921. E-mail: carla.sullivan@noaa.gov.

SUPPLEMENTARY INFORMATION: Background: The Interagency Working Group on Earth Observations (IWGEO) of the NSTC Committee on Environment and Natural Resources was established after the Earth Observation Summit for a two-fold purpose:

(1) To develop and begin implementation of the U.S. framework and ten-year plan for an integrated, comprehensive Earth observation system to answer environmental and societal needs, including a U.S. assessment of current observational capabilities, evaluation of requirements to sustain and evolve these capabilities considering both remote and in situ instruments, assessment of how to integrate current observational capabilities across scales, and evaluation and addressing of data gaps; and

(2) To formulate the U.S. position and input to the international ad hoc Group on Earth Observations (GEO) as formed at the Earth Observation Summit on July 31, 2003.

In response the first goal, the IWGEO has prepared a Draft Strategic Plan for the U.S. Integrated Earth Observation System. The draft was prepared after a year of coordination among the appropriate Federal agencies. In addition, a public workshop was held on June 16-17, 2004, for the purpose of allowing representatives of the communities-of-practice to contribute information and facts on the nine societal benefits areas, which provide the focus of the plan. These strategic social/economic areas include:

1. Improve weather forecasting.

2. Reducing loss of life and property from disasters.

3. Protecting and monitoring ocean resources.

4. Understanding climate, and assessing, mitigating, and adapting to climate change impacts.

5. Supporting sustainable agriculture and forestry, and combating land degradation.

6. Understanding the effect of environmental factors on human health and well being.

7. Developing the capacity to make ecological forecasts.

8. Protecting and monitoring water resources.

9. Monitoring and managing energy resources.

Public Participation. Appendix 3 of the Draft Strategic Plan for the U.S. Integrated Earth Observation System provide a summary of the Technical Reference Documents on each of the nine societal benefits areas. These documents have been updated based on comments received at the June IWGEO public meeting and may be found on the IWGEO Web site at http://iwgeo.ssc.nasa.gov, or by contacting the IWGEO Secretariat office: Carla Sullivan, Interagency Working Group on Earth Observations (IWGEO), National Oceanic and Atmospheric Administration (NOAA), 1401 Constitution Avenue, NW., Washington, DC 20230. Telephone: (202) 482-5921, telefax: (202) 408-9674. E-mail: Carla.Sullivan@noaa.gov. Subject: Draft Strategic Plan for U.S. Integrated Earth Observation System.

The National Science and Technology Council (NSTC) was established by Executive Order 12881. The Committee on Environment and Natural Resources (CENR) was chartered as one of four standing committees of the NSTC for the purpose of advising and assisting the Council on those federally supported efforts that develop new knowledge related to improving our understanding of the environment and natural resources.

Ann F. Mazur,
Assistant Director for Budget and Administration.

[FR Doc. 04-25148 Filed 11-9-04; 8:45 am]

BILLING CODE 3170-W5-P